FEDERAL ELECTION COMMISSION

[NOTICE 2024-15]

Filing Dates for the Wisconsin Special Election in the 8th Congressional District

AGENCY: Federal Election Commission.

ACTION: Notice of filing dates for special election.

SUMMARY: Wisconsin has scheduled special elections on August 13, 2024, and November 5, 2024, to fill the U.S. House of Representatives seat in the 8th Congressional District vacated by Representative Mike Gallagher. Committees required to file reports in connection with the Special Primary Election on August 13, 2024, shall file a 12-day Pre-Primary Report. Committees required to file reports in connection with both the Special Primary and Special General on November 5, 2024, shall file a 12-day Pre-Primary, a 12-day Pre-General and a 30-Day Post-General Report.

ADDRESSES: 1050 First Street NE, Washington, DC 20463

FOR FURTHER INFORMATION CONTACT: Ms. Elizabeth S. Kurland, Information Division, (202) 694-1100 or (800) 424-9530, info@fec.gov.

SUPPLEMENTARY INFORMATION:

Principal Campaign Committees

All principal campaign committees of candidates who participate in the Wisconsin Special Primary and Special General Election shall file a 12-day Pre-Primary Report on August 1, 2024; a 12-day Pre-General Report on October 24, 2024, and a 30-day Post-General Report on December 5, 2024. (See charts below for the closing date for each report.)

Note that these reports are in addition to the campaign committee's regular quarterly filings. (See charts below for the closing date for each report).

Unauthorized Committees (PACs and Party Committees)

Political committees not filing monthly are subject to special election reporting if they make previously undisclosed contributions or expenditures in connection with the Wisconsin Special Primary or Special General Election by the close of books for the applicable report(s). (See charts below for the closing date for each report.)

Committees filing monthly that make contributions or expenditures in connection with the Wisconsin Special Primary or Special General Election will continue to file according to the monthly reporting schedule.

Additional disclosure information for the Wisconsin special elections may be found on the FEC website at https://www.fec.gov/help-candidates-and-committees/dates-and-deadlines/.

Disclosure of Lobbyist Bundling Activity

Principal campaign committees, party committees and leadership PACs that are otherwise required to file reports in connection with the special elections must simultaneously file FEC Form 3L if they receive two or more bundled contributions from lobbyists/registrants or lobbyist/registrant PACs that aggregate in excess of $22,700 during the special election reporting periods. (See charts below for closing date of each period.) 11 CFR 104.22(a)(5)(v), (b), 110.17(e)(2), (f).

Calendar of Reporting Dates for Wisconsin Special Elections
Report | Close of books ¹ | Reg./cert. & overnight mailing deadline | Filing deadline
Political Committees Involved in Only the Special Primary (08/13/2024) Must File:
Pre-Primary | 07/24/2024 | 07/29/2024 | 08/01/2024
October Quarterly | 09/30/2024 | 10/15/2024 | 10/15/2024
Political Committees Involved in Both the Special Primary (08/13/2024) and Special General (11/05/2024) Must File:
Pre-Primary | 07/24/2024 | 07/29/2024 | 08/01/2024
October Quarterly | 09/30/2024 | 10/15/2024 | 10/15/2024
Pre-General | 10/16/2024 | 10/21/2024 | 10/24/2024
Post-General | 11/25/2024 | 12/05/2024 | 12/05/2024
Year-End | 12/31/2024 | 01/31/2025 | 01/31/2025
Political Committees Involved in Only the Special General (11/05/2024) Must File:
Pre-General | 10/16/2024 | 10/21/2024 | 10/24/2024
Post-General | 11/25/2024 | 12/05/2024 | 12/05/2024
Year-End | 12/31/2024 | 01/31/2025 | 01/31/2025
¹ The reporting period always begins the day after the closing date of the last report filed. If the committee is new and has not previously filed a report, the first report must cover all activity that occurred before the committee registered as a political committee up through the close of books for the first report due.

Dated: May 21, 2024.
On behalf of the Commission,
Sean J. Cooksey,
Chairman, Federal Election Commission.

[FR Doc. 2024-11468 Filed 5-23-24; 8:45 am]

BILLING CODE 6715-01-P